U.S.-CHINA ECONOMIC AND SECURITY REVIEW COMMISSION

Notice of Open Public Hearing

AGENCY: U.S.-China Economic and Security Review Commission.

ACTION: Notice of open public hearing—May 15, 2014, Washington, DC.

SUMMARY: Notice is hereby given of the following hearing of the U.S.-China Economic and Security Review Commission.

Name: Dennis C. Shea, Chairman of the U.S.-China Economic and Security Review Commission. The Commission is mandated by Congress to investigate, assess, and report to Congress annually on “the national security implications of the economic relationship between the United States and the People's Republic of China.” Pursuant to this mandate, the Commission will hold a public hearing in Washington, DC on May 15, 2014, “Stability in China: Lessons from Tiananmen and Implications for the United States.”

Background: This is the sixth public hearing the Commission will hold during its 2014 report cycle to collect input from academic, industry, and government experts on national security implications of the U.S. bilateral trade and economic relationship with China. This hearing will examine the legacy of the Tiananmen Square Massacre and the underlying economic, political, and social tensions that cause instability in China today, as well as the implications of these challenges for U.S. economic and security interests. The hearing will also assess China's response to its internal security challenges, and the use of media and information controls to contain domestic unrest and manage public opinion. The hearing will be co-chaired by Dr. Larry M. Wortzel and Commissioner Carolyn Bartholomew. Any interested party may file a written statement by May 15, 2014, by mailing to the contact below. A portion of each panel will include a question and answer period between the Commissioners and the witnesses.

Location, Date and Time: Room 608, Dirksen Senate Office Building, 1st Street Southeast, Washington, DC. Thursday, May 15, 2014, 8:30 a.m.-3:15 p.m. Eastern Time. A detailed agenda for the hearing will be available on Commission's Web site at www.uscc.gov. Also, please check our Web site for possible changes to the hearing schedule. Reservations are not required to attend the hearing.

FOR FURTHER INFORMATION CONTACT: Any member of the public seeking further information concerning the hearing should contact Reed Eckhold, 444 North Capitol Street NW., Suite 602, Washington, DC 20001; phone: 202-624-1496, or via email at reckhold@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: May 7, 2014.
Michael Danis,
Executive Director, U.S.-China Economic and Security Review Commission.

[FR Doc. 2014-10878 Filed 5-12-14; 8:45 am]

BILLING CODE 1137-00-P